DEPARTMENT OF HEALTH AND HUMAN SERVICES

National Institutes of Health

National Institute of Mental Health; Notice of Meeting

Pursuant to section 10(a) of the Federal Advisory Committee Act, as amended (5 U.S.C. App.), notice is hereby given of a meeting of the Interagency Autism Coordinating Committee (IACC) Subcommittee for Services Research and Policy Subcommittee.

The IACC Subcommittee for Services Research and Policy will have a conference call on Friday, March 8, 2013. The Subcommittee will discuss future subcommittee activities. The meeting will be accessible by conference call.

Name of Committee: Interagency Autism Coordinating Committee (IACC) Subcommittee for Services Research and Policy.

Type of meeting: Conference Call.

Date: March 8, 2013.

Time: 2:00 p.m.-4:30 p.m. *Eastern Time*—Approximate end time.

Agenda: The subcommittee will discuss future subcommittee activities.

Place: Conference call only; No in-person meeting.

Conference Call: Dial: 800-619-7592 Access code: 3128406.

Cost: The conference call is free.

Contact Person: Ms. Lina Perez, Office of Autism Research Coordination, National Institute of Mental Health, NIH, 6001 Executive Boulevard, NSC, Room 6182A, Rockville, MD 20852, Phone: (301) 443-6040, Email: IACCPublicInquiries@mail.nih.gov.

Please Note: The meeting will be open to the public and accessible via conference call. Members of the public who participate using the conference call phone number will be able to listen to the meeting but will not be heard. If you experience any technical problems with the conference call, please email iacchelpdesk2012@gmail.com or call the IACC Technical Support Help Line at 301-339-3840.

Accommodations Statement: Individuals who participate by using the conference call and who need special assistance such as captioning or other reasonable accommodations should submit a request to the Contact Person listed on this notice at least 5 days prior to the meeting.

Schedule subject to change.

Information about the IACC is available on the Web site: http://www.iacc.hhs.gov.

Dated: February 14, 2013.
Carolyn A. Baum,
Program Analyst, Office of Federal Advisory Committee Policy.

[FR Doc. 2013-03853 Filed 2-20-13; 8:45 am]

BILLING CODE 4140-01-P